DEPARTMENT OF ENERGY

Federal Energy Regulatory Commission

[Project No. 11858-002]

The Nevada Power Company, Inc.; Elsinore Valley Municipal Water District; California; Notice of Intention To Hold Public Meetings for Discussion of the Draft Environmental Impact Statement for the Lake Elsinore Advanced Pumped Storage Project

March 1, 2006.

On February 17, 2006, the Commission staff delivered the Lake Elsinore Advanced Pumped Storage (LEAPS) Project Draft Environmental Impact Statement (draft EIS) to the Environmental Protection Agency and mailed it to resource and land management agencies, interested organizations, and individuals.

The draft EIS was noticed in the Federal Register on February 24, 2006, (71 FR 9819) and comments are due April 25, 2006. The draft EIS evaluates the environmental consequences and developmental benefits of issuing an original license for building, operating and maintaining the LEAPS Project, located in Riverside County, California. The project would occupy 2,412 acres of federal lands, including lands managed by the Cleveland National Forest. Besides evaluating the applicant's proposal, the draft EIS evaluates a FERC staff proposal and the no-action alternative.

Two public meetings, which will be recorded by an official stenographer, are scheduled as follows.

Date: Tuesday, April 4, 2006.

Time: 7-10 p.m. (PST).

Place: San Juan Capistrano Community Center, 25925 Camino del Avion, San Juan Capistrano, CA 92675.

Date: Wednesday, April 5, 2006.

Time: 7-10 p.m. (PST).

Place: Lake Elsinore Cultural Center, 183 N. Main Street, Lake Elsinore, CA 92530.

At these meetings, resource agency personnel and other interested persons will have the opportunity to provide oral and written comments and recommendations regarding the DEIS for the Commission's public record.

For further information, please contact Jim Fargo at e-mail address james.fargo@ferc.gov, or by telephone at (202) 502-6095.

Magalie R. Salas,
Secretary.

[FR Doc. E6-3212 Filed 3-7-06; 8:45 am]

BILLING CODE 6717-01-P